DEPARTMENT OF LABOR

Employment and Training Administration

[TA-W-56,819]

Hudson RCI; Temecula, CA; Notice of Termination of Investigation

Pursuant to section 221 of the Trade Act of 1974, an investigation was initiated on March 24, 2005 in response to a petition filed by a company official on behalf of workers at Hudson RCI, Temecula, California.

The petitioner has requested that the petition be withdrawn. Consequently, the investigation has been terminated.

Signed in Washington, DC, this 22nd day of April 2005.
Elliott S. Kushner,
Certifying Officer, Division of Trade Adjustment Assistance.

[FR Doc. E5-2135 Filed 5-2-05; 8:45 am]

BILLING CODE 4510-30-P